ENVIRONMENTAL PROTECTION AGENCY

40 CFR Part 63

[EPA-HQ-OAR-2005-0155; FRL-8547-3]

RIN 2060-AO52

National Perchloroethylene Air Emission Standards for Dry Cleaning Facilities

AGENCY: Environmental Protection Agency (EPA).

ACTION: Proposed rule.

SUMMARY: EPA is proposing to amend the national perchloroethylene air emission standards for dry cleaning facilities promulgated on July 27, 2006 (71 FR 42724), under the authority of section 112 of the Clean Air Act. These amendments to the national perchloroethylene air emission standards for dry cleaning facilities would correct applicability cross references that were not correctly amended between the most recent proposed and final rule revisions, and would clarify that condenser performance monitoring may be done by either of two prescribed methods (pressure or temperature), regardless of whether an installed pressure gauge is present. Without these amendments, new area sources could erroneously be required to perform monitoring that was proposed for only major sources, and installed condenser performance gauge readings could be required of sources when a prescribed temperature method is just as valid for compliance purposes. In the “Rules and Regulations” section of this Federal Register, we are issuing these corrections as a direct final rule with this parallel proposed rule. If we receive no adverse comment, we will not take further action on this proposed rule.

DATES: Written comments must be received on or before May 16, 2008.

Public Hearing: If anyone contacts EPA requesting to speak at a public hearing concerning this rulemaking by April 11, 2008, we will hold a public hearing on April 16, 2008.

ADDRESSES: Submit your comments, identified by Docket ID No. EPA-HQ-OAR-2005-0155 by one of the following methods:

(1) http//www.regulations.gov: Follow the on-line instructions for submitting comments.

(2) E-mail: a-and-r-docket@epa.gov and johnson.warren@epa.gov.

(3) Facsimile: (202) 566-9744 and (919) 541-3470.

(4) Mail: U.S. Postal Service, send comments to: Air and Radiation Docket, Environmental Protection Agency, Mailcode: 6102T, 1200 Pennsylvania Ave., NW., Washington, DC 20460. Please include a total of two copies.

(5) Hand Delivery: Deliver in person, or by courier deliveries to: EPA Docket Center, Public Reading Room, EPA West, Room 3334, 1301 Constitution Ave., NW., Washington, DC 20460. Such deliveries are only accepted during the Docket's normal hours of operation, and special arrangements should be made for deliveries of boxed information.

We request that a separate copy also be sent to the contact person listed below (see FOR FURTHER INFORMATION CONTACT).

Public Hearing: If you are interested in attending the public hearing, contact Ms. Joan Rogers at (919) 541-4487 to verify that a hearing will be held. If a public hearing is held, it will be held at 10 a.m. at EPA's Campus located at 109 T.W. Alexander Drive in Research Triangle Park, NC, or an alternate site nearby. If no one contacts EPA requesting to speak at a public hearing concerning this rule by April 11, 2008 this meeting will be cancelled without further notice.

FOR FURTHER INFORMATION CONTACT: Mr. Warren Johnson, Sector Policies and Programs Division, Office of Air Quality Planning and Standards (E143-03), Environmental Protection Agency, Research Triangle Park, North Carolina 27711, telephone number (919) 541-5124, electronic mail address johnson.warren@epa.gov.

SUPPLEMENTARY INFORMATION: The information presented in this document is organized as follows:

I. Why is EPA issuing the proposed rule?

II. Does this action apply to me?

III. Where can I get a copy of this document?

IV. Statutory and Executive Order Reviews

I. Why Is EPA Issuing the Proposed Rule?

In the “Rules and Regulations” section of this Federal Register, we are issuing these corrections as a direct final rule with this parallel proposed rule. If we receive no adverse comment, we will not take further action on this proposed rule. On September 22, 1993, EPA promulgated National Perchloroethylene Air Emission Standards for Dry Cleaning Facilities (58 FR 49376). These standards are codified at 40 CFR part 63, subpart M. On December 21, 2005, EPA proposed revisions to the National Perchloroethylene Air Emission Standards for Dry Cleaning Facilities (70 FR 75884) and on July 27, 2006, EPA promulgated final revisions to the National Perchloroethylene Air Emission Standards for Dry Cleaning Facilities (71 FR 42724). This document proposes to make certain technical and editorial corrections to these final revisions. We have published a direct final rule correcting the area source NESHAP in the “Rules and Regulations” section of this Federal Register because we view this as a non-controversial action and anticipate no adverse comment. We have explained our reasons for this action in the preamble to the direct final rule.

If we receive no adverse comment, we will take no further action on this proposed rule. If we receive adverse comment, we will publish a timely withdrawal in the Federal Register informing the public that some or all of the amendments in this rule will not take effect. We will address all public comments received on this proposed rule in a subsequent final rule, and we will not institute a second comment period on this proposed rule. Any parties interested in commenting on the proposed rule must do so at this time.

For further information about commenting on the rule, see the ADDRESSES section of this document.

II. Does This Action Apply to Me?

The categories and entities potentially regulated by the final rule are industrial and commercial perchloroethylene (PCE) dry cleaners. This proposal would affect the following categories of sources:

Category | NAICS ¹ code | Examples of potentially regulated entities
Coin-operated Laundries and Dry Cleaners | 812310 | Dry-to-dry machines. Transfer machines.
Dry Cleaning and Laundry Services (except coin-operated) | 812320 | Dry-to-dry machines. Transfer machines.
Industrial Launderers | 812332 | Dry-to-dry machines. Transfer machines.
¹ North American Industry Classification System.

This table is not intended to be exhaustive, but rather provides a guide for readers regarding entities likely to be regulated by the final rule. To determine whether your facility is regulated by the final rule, you should examine the applicability criteria in 40 CFR 63.320. If you have any questions regarding the applicability of the final rule to a particular entity, contact the person listed in the preceding FOR FURTHER INFORMATION CONTACT section.

III. Where Can I Get a Copy of This Document?

In addition to being available in the docket, an electronic copy of this proposed action will also be available on the Worldwide Web (WWW) through the Technology Transfer Network (TTN). Following signature, a copy of this proposed action will be posted on the TTN's policy and guidance page for newly proposed or promulgated rules at the following address: http://www.epa.gov/ttn/oarpg/. The TTN provides information and technology exchange in various areas of air pollution control.

IV. Statutory and Executive Order Reviews

For the discussion of administrative requirements for this proposed rule, see the direct final rule action in the “Rules and Regulations” section of today's Federal Register.

List of Subjects in 40 CFR Part 63

Environmental protection, Air pollution control, Hazardous substances, Reporting and recordkeeping requirements.

Dated: March 20, 2008.
Stephen L. Johnson,
Administrator.

[FR Doc. E8-6548 Filed 3-31-08; 8:45 am]

BILLING CODE 6560-50-P